DEPARTMENT OF COMMERCE

International Trade Administration

[A-823-805]

Final Results of Full Sunset Review: Silicomanganese From Ukraine

AGENCY: Import Administration, International Trade Administration, Department of Commerce.

ACTION: Notice of final results of full sunset review: silicomanganese from Ukraine.

SUMMARY: On May 30, 2000, the Department of Commerce (“the Department”) published a notice of preliminary results of the full sunset review of the suspended antidumping investigation on silicomanganese from Ukraine (65 FR 34440) pursuant to section 751(c) of the Tariff Act of 1930, as amended (“the Act”). We provided interested parties an opportunity to comment on our preliminary results. We did not receive comments from either domestic or respondent interested parties. As a result of this review, the Department finds that termination of the suspended antidumping investigation would be likely to lead to continuation or recurrence of dumping at levels indicated in the Final Results of Review section of this notice.

EFFECTIVE DATE: September 27, 2000.

FOR FURTHER INFORMATION CONTACT: Martha V. Douthit, Office of Policy for Import Administration, International Trade Administration, U.S. Department of Commerce, 14th Street and Constitution Avenue, NW, Washington, D.C. 20230; telephone: (202) 482-5050 or (202) 482-3330, respectively.

Statute and Regulations

Unless otherwise indicated, all citations to the Act are references to the provisions effective January 1, 1995, the effective date of the amendments made to the Act by the Uruguay Round Agreements Act (“URAA”). In addition, unless otherwise indicated, all citations to the Department regulations are to 19 CFR Part 351 (1999). Guidance on methodological or analytical issues relevant to the Department's conduct of sunset reviews is set forth in the Department's Policy Bulletin 98.3—Policies Regarding the Conduct of Five-year (“Sunset”) Reviews of Antidumping and Countervailing Duty Orders; Policy Bulletin, 63 FR 18871 (April 16, 1998) (“Sunset Policy Bulletin”).

Background

On May 30, 2000, the Department of Commerce (“the Department”) published in the Federal Register a notice of preliminary results of the full sunset review of the suspended antidumping investigation on silicomanganese from Ukraine, pursuant to section 751(c) of the Act. In our preliminary results, we found that termination of the suspended antidumping investigation would be likely to lead to continuation or recurrence of dumping, and we preliminarily determined the following dumping margin likely to prevail if the suspended antidumping investigation were terminated:

Manufacturers/Exporters | Margin (percent)
Country-wide | 163.00

We did not receive a case brief on behalf of either domestic or respondent interested parties within the deadline specified in 19 CFR 351.309(c)(1)(i).

Scope of Review

The merchandise covered by this sunset review is silicomanganese. Silicomanganese, which is sometimes called ferrosilicon manganese, is a ferroalloy composed principally of manganese, silicon, and iron, and normally containing much smaller proportions of minor elements, such as carbon, phosphorous, and sulfur. Silicomanganese generally contains by weight not less than four percent iron, more than 30 percent manganese, more than eight percent silicon, and not more than three percent phosphorous. All compositions, forms, and sizes of silicomanganese are included within the scope of this review, including silicomanganese slag, fines, and briquettes. Silicomanganese is used primarily in steel production as a source of both silicon and manganese. This sunset review covers all silicomanganese, regardless of its tariff classification. Most silicomanganese is currently classifiable under subheading 7202.30.0000 of the Harmonized Tariff Schedule of the United States (“HTSUS”). Some silicomanganese may also currently be classifiable under HTSUS subheading 7202.99.5040. Although the HTSUS subheadings are provided for convenience and customs purposes, our written description of the subject merchandise remains dispositive.

Analysis of Comments Received

The Department did not receive case briefs from either domestic or respondent interested parties. Therefore, we have not made any changes to our preliminary results of May 30, 2000 (65 FR 34440).

Final Results of Review

As a result of this review, the Department finds that termination of the suspended antidumping investigation on silicomanganese from Ukraine would be likely to lead to continuation or recurrence of dumping at the level listed below:

Manufacturers/Exporters | Margin (percent)
Country-wide | 163.00

This notice also serves as the only reminder to parties subject to administrative protective orders (“APO”) of their responsibility concerning the return or disposition of proprietary information disclosed under APO in accordance with 19 CFR 351.305 of the Department's regulations. Timely written notification of the return or destruction of APO materials or conversion to judicial protective order is hereby requested. Failure to comply with the regulations and terms of an APO is a violation which is subject to sanction.

This five-year (“sunset”) review and notice are in accordance with sections 751(c), 752, and 777(i)(1) of the Act.

Dated: September 21, 2000.
Troy H. Cribb,
Acting Assistant Secretary for Import Administration.

[FR Doc. 00-24848 Filed 9-26-00; 8:45 am]

BILLING CODE 3510-DS-P